DEPARTMENT OF LABOR

Employment and Training Administration

[NAFTA-4280]

Caffall Brothers Forest Products, Inc., Wilsonville, OR; Notice of Termination of Investigation

Pursuant to Title V of the North American Free Trade Agreement Implementation Act (Pub. L. 103-182) concerning transitional adjustment assistance, hereinafter called NAFTA-TAA and in accordance with section 250(a), Subchapter 2, Title II, of the Trade Act of 1974, as amended (19 USC 2331), an investigation was initiated on November 9, 2000 in response to a petition filed by company officials on behalf of workers at Caffall Bros. Forest Products, Inc., Wilsonville, Oregon.

The company has requested that the petition be withdrawn. Consequently, further investigation in this case would serve no purpose, and the investigation has been terminated.

Signed in Washington, DC this 29th day of December, 2000.
Linda Poole,
Certifying Officer, Division of Trade Adjustment Assistance.

[FR Doc. 01-945 Filed 1-10-01; 8:45 am]

BILLING CODE 4510-30-M